DEPARTMENT OF TRANSPORTATION

Federal Highway Administration

Environmental Impact Statement: Mid-States Corridor, Southern Indiana

AGENCY: Federal Highway Administration (FHWA), DOT.

ACTION: Notice of intent.

SUMMARY: The Federal Highway Administration (FHWA) is issuing this notice to advise the public that an Environmental Impact Statement (EIS) will be prepared for the proposed Mid-States Corridor in Southern Indiana.

FOR FURTHER INFORMATION CONTACT: Michelle Allen, Environmental Specialist, Federal Highway Administration, Federal Building, Room 254, 575 North Pennsylvania Street, Indianapolis, Indiana 46204, Telephone (317) 226-7344, or Laura Hilden, Director of Environmental Services, Indiana Department of Transportation, 100 N Senate Avenue, Room N642, Indianapolis, Indiana 46204, Telephone (317) 232-5018.

SUPPLEMENTARY INFORMATION: The FHWA in cooperation with the Indiana Department of Transportation (INDOT) and the Mid-States Corridor Regional Development Authority (RDA) will prepare a Tier 1 EIS on proposed highway corridors to improve access to Southern Indiana population, manufacturing, and multimodal centers (e.g., river barge and rail connections).

The southern terminus of the proposed action will be US 231 at the Indiana end of the Natcher Bridge crossing of the Ohio River near Rockport. The northern terminus will be at either I-69 or SR 37 at a location south of the intersection of these two routes in Monroe County, Indiana.

The Tier 1 EIS for this proposed action will be to resolve “big picture” planning issues such as “build” vs. “no-build”; facility type; preferred corridor; and logical termini for “projects of independent utility” within the preferred corridor. This proposed action is intended to strengthen the highway network in Southern Indiana by providing improved linkages among the existing highway routes in the region and by providing more direct connections among the region's major population and economic centers. By strengthening the highway network, this proposed action is intended to stimulate economic growth in Southern Indiana by enhancing access to existing centers of economic activity and creating new opportunities where possible.

The FHWA is using a tiered EIS to focus on issues in an organized manner as discussed in the Council of Environmental Quality (CEQ) regulations at 40 CFR 1502.20. The Tier 1 document will include in-depth analysis of environmental, transportation, and economic impacts, as well as cost estimates. This document will provide the basis for FHWA to grant location approval for a specific corridor.

The Tier 2 environmental documents will result from a series of smaller studies for individual sections of the corridor. Within each section of the corridor, specific alignments would be identified and evaluated based upon their social, economic and environmental impacts. The Tier 2 documents would be more closely tailored to address transportation needs within each project section.

A scoping meeting will be held for the regulatory agencies. There also will be several public scoping meetings held at various locations in the project area. Early coordination letters describing the proposed action and soliciting comments will be sent to appropriate Federal, State, and local agencies. As part of the process, public hearings will also be held. Public notice will be given as to the time and place of the meetings and hearings. The public hearings will be held after the draft EIS is available for review.

To ensure that the full range of issues related to this proposed action is addressed and any significant impacts are identified, comments and suggestions are invited from all interested parties. Comments or questions concerning this proposed action and this Tier 1 EIS should be directed to the FHWA or the INDOT at the address provided above.

(Catalog of Federal Domestic Assistance Program Number 20.205, Highway Planning and Construction. The regulations implementing Executive Order 12372 regarding intergovernmental consultation on Federal programs and activities apply to this program)

Issued on: June 28, 2019.
Mayela Sosa,
Division Administrator, Indianapolis, IN.

[FR Doc. 2019-14306 Filed 7-3-19; 8:45 am]

BILLING CODE 4910-22-P